DEPARTMENT OF TRANSPORTATION

Federal Aviation Administration

Notice of Intent To Rule on Request To Release Airport Property at the Gainesville Municipal Airport in Gainesville, Texas

AGENCY: Federal Aviation Administration (FAA), DOT.

ACTION: Notice of request to release airport property.

SUMMARY: The FAA proposes to rule and invite public comment on the release of land at the Gainesville Municipal Airport under the provisions of Section 125 of the Wendell H. Ford Aviation Investment Reform Act for the 21st Century (AIR 21).

DATES: Comments must be received on or before April 4, 2016.

ADDRESSES: Comments on this application may be mailed or delivered to the FAA at the following address: Mr. Cameron Bryan, Acting Manager, Federal Aviation Administration, Southwest Region, Airports Division, Texas Airports Development Office, ASW-650, 10101 Hillwood Parkway, Fort Worth, Texas 76177.

In addition, one copy of any comments submitted to the FAA must be mailed or delivered to Mr. Barry Sullivan, City Manager, at the following address: 2300 Airport Drive, Gainesville, Texas 76240.

FOR FURTHER INFORMATION CONTACT: Mr. Anthony Mekhail, Program Manager, Federal Aviation Administration, Texas Airports Development Office, ASW-650, 10101 Hillwood Parkway, Fort Worth, TX 76177, Telephone: (817) 222-5663, email: Anthony.Mekhail@faa.gov.

The request to release property may be reviewed in person at this same location.

SUPPLEMENTARY INFORMATION: The FAA invites public comment on the request to release property at the Gainesville Municipal Airport under the provisions of the AIR 21.

The following is a brief overview of the request: City of Gainesville requests the release of 20 acres of non-aeronautical airport property. The property is located on the southeast side of the airport, bordered by US HWY 82 to the south. The property to be released will be sold and revenues shall be used to enhance development, operations and maintenance of the airport. Any person may inspect the request in person at the FAA office listed above under FOR FURTHER INFORMATION CONTACT.

In addition, any person may, upon request, inspect the application, notice and other documents relevant to the application in person at the Gainesville Municipal Airport, telephone number (940) 668-4500.

Issued in Fort Worth, Texas on February 2, 2016.
Ignacio Flores
Manager, Airports Division.

[FR Doc. 2016-04764 Filed 3-2-16; 8:45 am]

BILLING CODE 4910-13-P